DEPARTMENT OF VETERANS AFFAIRS

[OMB Control No. 2900-New (21-0842)]

Agency Information Collection (Pre-Discharge Compensation Claim) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before September 3, 2009.

ADDRESSES: Submit written comments on the collection of information through http://www.Regulations.gov or to VA's OMB Desk Officer, Office of Information and Regulatory Affairs, New Executive Office Building, Room 10235, Washington, DC 20503 (202) 395-7316. Please refer to “OMB Control No. 2900-New (21-0842)” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-New (21-0842).”

SUPPLEMENTARY INFORMATION:

Title: Pre-Discharge Compensation Claim, VA Form 21-0842.

OMB Control Number: 2900-New (21-0842).

Type of Review: New collection.

Abstract: The Pre-Discharge Compensation Claim form will be used by service members to file claims under the Benefits Delivery at Discharge or Quick Start programs. VA will use the data collected as the required certification statement needed from claimants to confirm that the information they provided is true and correct.

An agency may not conduct or sponsor, and a person is not required to respond to a collection of information unless it displays a currently valid OMB control number. The Federal Register Notice with a 60-day comment period soliciting comments on this collection of information was published on May 26, 2009, at page 24902.

Affected Public: Individuals or households.

Estimated Annual Burden: 40,250.

Estimated Average Burden per Respondent: 15 minutes.

Frequency of Response: On occasion.

Estimated Number of Respondents: 161,000.

Dated: July 30, 2009.
By direction of the Secretary
Denise McLamb,
Program Analyst, Enterprise Records Service.

[FR Doc. E9-18627 Filed 8-3-09; 8:45 am]

BILLING CODE 8320-01-P